ENVIRONMENTAL PROTECTION AGENCY

40 CFR Part 300

[EPA-HQ-SFUND-2014-0733; FRL-9918-51-OSWER]

National Oil and Hazardous Substances Pollution Contingency Plan; Technical Amendment To Update Data Management System Nomenclature

AGENCY: Environmental Protection Agency (EPA).

ACTION: Proposed rule.

SUMMARY: Effective January 31, 2014 the EPA Superfund program decommissioned the Comprehensive Environmental Response Compensation and Liability Act Information System (CERCLIS) and adopted a new, more comprehensive data management system. The new data management system, the Superfund Enterprise Management System (SEMS), serves as a more powerful, integrated platform. Consistent with this action, this proposed rule proposes to make appropriate conforming terminological changes to our regulations. This proposed rule also proposes to add a minor clarification to the description of the remedial preliminary assessment.

DATES: Written comments must be received by December 5, 2014.

ADDRESSES: Submit your comments, identified by Docket ID No. EPA-HQ-SFUND-2014-0733, by one of the following methods:

• www.regulations.gov: Follow the on-line instructions for submitting comments.

• Email: superfund.docket@epa.gov

• U.S. Postal Mail: U.S. Environmental Protection Agency, EPA Docket Center (EPA/DC), Superfund Docket, Mailcode: 28221T, 1200 Pennsylvania Ave. NW., Washington, DC 20460.

• Hand Delivery: EPA Docket Center (EPA/DC), EPA West, Room 3334, 1301 Constitution Ave. NW., Washington, DC 20460. Attention Docket ID No. EPA-HQ-SFUND-2014-0733. Such deliveries are only accepted during the Docket's normal hours of operation, and special arrangements should be made for deliveries of boxed information.

Instructions: Direct your comments to Docket ID No. EPA-HQ-SFUND-2014-0733. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Superfund Docket (Docket ID No. EPA-HQ-SFUND-2014-0733). This Docket Facility is open from 8:30 a.m. to 4:30 p.m., Monday through Friday, excluding legal holidays. The Superfund Docket telephone number is (202) 566-0276. EPA Docket Center (EPA/DC), EPA West, Room 3334, 1301 Constitution Ave. NW., Washington, DC.

FOR FURTHER INFORMATION CONTACT: Jennifer Hovis at (703) 603-8888 (hovis.jennifer@epa.gov), U.S. Environmental Protection Agency, 1200 Pennsylvania Avenue NW., Washington, DC 20460-0002, Mail Code 5202P.

SUPPLEMENTARY INFORMATION:

I. Why is EPA issuing this proposed rule?

This document proposes to amend the National Oil and Hazardous Substances Pollution Contingency Plan (NCP) to make nonsubstantive changes to reflect new data management system nomenclature resulting from the Superfund program's transition from CERCLIS to SEMS. This document also adds minor clarifying text to a description in the NCP that will make the regulations more accurate. We have published a direct final rule to promulgate the above changes in the “Rules and Regulations” section of today's Federal Register because we view this as a noncontroversial action and anticipate no adverse comment. We have explained our reasons for this action in the preamble to the direct final rule.

If we receive no adverse comment, we will not take further action on this proposed rule. If we receive adverse comment, we will issue a timely withdrawal of the direct final rule and it will not take effect. We would address all relevant public comments in any subsequent final rule based on this proposed rule. We do not intend to institute a second comment period on this action. Any parties interested in commenting must do so at this time. For further information, please see the information provided in the ADDRESSES section of this document. Comments are only being solicited on the deletion of reference to CERCLIS and the addition of clarifying text to the remedial preliminary assessment description. Therefore, comments are not being requested on other unmodified sections of the NCP nor on EPA's internal agency management decision to update the Superfund data management system, and such comments will not be considered if submitted.

II. What does this amendment do?

This rule proposes to revise the Operational Abbreviations section (40 CFR 300.4(b)) and the Definitions section (40 CFR 300.5) of the NCP to reflect terminological changes necessary for consistency with EPA's transition from CERCLIS as the Superfund program's planning and tracking data management system to SEMS. This rule also amends the Remedial preliminary assessment description (40 CFR 420(b)) to clarify that the Preliminary Assessment (PA) is performed on only those sites that have been entered into the SEMS remedial assessment active inventory.

III. Statutory and Executive Order Reviews

For a complete discussion of all of the administrative requirements applicable to this action, see the discussion in the “Statutory and Executive Order Reviews” section to the preamble for the direct final rule that is published in the Rules and Regulations section of this Federal Register.

Under Executive Order 12866 (58 FR 51735, October 4, 1993) and Executive Order 13563 (76 FR 3821, January 21, 2011), this proposed action is not a “significant regulatory action” and is therefore not subject to OMB review. This action merely deletes an obsolete reference to a retired information system and adds minor clarifying text to a description in the NCP. This action does not impose any requirements on any entity, including small entities. Therefore, pursuant to the Regulatory Flexibility Act (5 U.S.C. 601 et seq.), after considering the economic impacts of this action on small entities, I certify that this action will not have a significant economic impact on a substantial number of small entities.

List of Subjects in 40 CFR Part 300

Environmental protection, Air pollution control, Chemicals, Hazardous substances, Hazardous waste, Intergovernmental relations, Natural resources, Oil pollution, Penalties, Reporting and recordkeeping requirements, Superfund, Water pollution control, Water supply.

Dated: October 28, 2014.
Mathy Stanislaus,
Assistant Administrator, Office of Solid Waste and Emergency Response.

[FR Doc. 2014-26159 Filed 11-4-14; 8:45 am]

BILLING CODE 6560-50-P